INTERNATIONAL TRADE COMMISSION

[Investigation No. TA-2103-1]

The Impact of Trade Agreements Implemented Under Trade Promotion Authority

AGENCY: United States International Trade Commission.

ACTION: Institution of investigation and scheduling of public hearing.

SUMMARY: Following receipt on March 31, 2005 of notification from the United States Trade Representative (USTR) on behalf of the President under section 2103(c)(3)(B) of the Trade Act of 2002 (19 U.S.C. 3803(c)(3)(B)), the Commission instituted investigation No. TA-2103-1, The Impact of Trade Agreements Implemented Under Trade Promotion Authority.

Background: As required in section 2103(c)(3)(B) of the Trade Act of 2002 (19 U.S.C. 3803(c)(3)(B)), the Commission must submit a report to the Congress not later than June 1, 2005, that contains a review and analysis of the economic impact on the United States of all trade agreements implemented between the date of enactment of this Act and the date on which the President decides to seek an extension requested under paragraph (2) of section 2103(c).

The only agreements implemented within this time period are free trade agreements with Chile, Singapore, and Australia.

As required by the statute, the Commission will provide its report not later than June 1, 2005.

DATES: Effective Date: March 31, 2005.

FOR FURTHER INFORMATION CONTACT: Project Manager, Kyle Johnson ((202) 205-3229 or kyle.johnson@usitc.gov), or Deputy Project Manager, Alan Fox ((202) 205-3267 or alan.fox@usitc.gov). For information on the legal aspects of this investigation, contact William Gearhart of the Office of the General Counsel ((202) 205-3091 or william.gearhart@usitc.gov). For media information, contact Peg O'Laughlin ((202) 205-1819). Hearing impaired individuals are advised that information on this matter can be obtained by contacting the TDD terminal on ((202) 205-1810).

Public Hearing: A public hearing in connection with the investigation will be held at the U.S. International Trade Commission Building, 500 E Street, SW., Washington, DC, beginning at 9:30 a.m. on April 27, 2005. Requests to appear at the public hearing should be filed with the Secretary, no later than 5:15 p.m., April 20, 2005 in accordance with the requirements in the “Submissions” section below. In the event that, as of the close of business on April 20, 2005, no witnesses are scheduled to appear at the hearing, the hearing will be canceled. Any person interested in attending the hearing as an observer or non-participant may call the Secretary ((202) 205-2000) after April 20, 2005, to determine whether the hearing will be held.

Written Submissions: In lieu of or in addition to participating in the hearing, interested parties are invited to submit written statements or briefs concerning the investigation. All written submissions, including requests to appear at the hearing, statements, and briefs should be addressed to the Secretary, United States International Trade Commission, 500 E Street, SW., Washington, DC 20436. Any prehearing briefs or statements should be filed not later than 5:15 p.m., April 20, 2005; the deadline for filing post-hearing briefs or statements is 5:15 p.m., May 2, 2005.

All written submissions must conform with the provisions of section 201.8 of the Commission's Rules of Practice and Procedure (19 CFR 201.8); any submissions that contain confidential business information must also conform with the requirements of section 201.6 of the Commission's Rules of Practice and Procedure (19 CFR 201.6). Section 201.8 of the rules require that a signed original (or a copy designated as an original) and fourteen (14) copies of each document be filed. In the event that confidential treatment of the document is requested, at least four (4) additional copies must be filed, in which the confidential information must be deleted. The Commission's rules do not authorize filing submissions with the Secretary by facsimile or electronic means, except to the extent permitted by section 201.8 of the Commission's Rules (19 CFR 201.8) (see Handbook for Electronic Filing Procedures, ftp://ftp.usitc.gov/pub/reports/electronic_filing_handbook.pdf).

Any submissions that contain CBI must also conform with the requirements of section 201.6 of the Commission's rules (19 CFR 201.6). Section 201.6 of the rules requires that the cover of the document and the individual pages clearly be marked as to whether they are the “confidential” or “nonconfidential” version, and that the CBI be clearly identified by means of brackets. All written submissions, except for CBI, will be made available for inspection by interested parties.

The Commission plans to publish only a public report in this investigation. The Commission will not publish confidential business information in a manner that would reveal the operations of the firm supplying the information.

Persons with mobility impairments who will need special assistance in gaining access to the Commission should contact the Office of the Secretary at (202) 205-2000.

Issued: April 6, 2005.
By order of the Commission.
Marilyn R. Abbott,
Secretary to the Commission.

[FR Doc. 05-7289 Filed 4-11-05; 8:45 am]

BILLING CODE 7020-02-P